ENVIRONMENTAL PROTECTION AGENCY

40 CFR Part 70

[DC-T5-2001a; FRL-7136-3]

Clean Air Act Full Approval of Operating Permit Program; District of Columbia; Correction

AGENCY: Environmental Protection Agency (EPA).

ACTION: Direct final rule; correcting amendment.

SUMMARY: This document corrects an error in the preamble language of a final rule pertaining to the full approval of the District of Columbia's title V operating permit program. EPA is hereby correcting a statement in the preamble to the final rule concerning its proposed interpretation of the term “modifications” under Title I of the Clean Air Act.

EFFECTIVE DATE: This correction is effective January 31, 2002.

FOR FURTHER INFORMATION CONTACT: Paresh R. Pandya, U.S. Environmental Protection Agency, Region III (3AP11), 1650 Arch Street, Philadelphia, PA 19103 at (215) 814-2167 or by e-mail at pandya.perry@epamail.epa.gov.

SUPPLEMENTARY INFORMATION: Effective November 30, 2001, EPA promulgated a final rule granting full approval to the District of Columbia's title V operating permit program submitted to EPA under the Clean Air Act Amendments of 1990 and implementing regulations at 40 CFR part 70. The final rule was published in the Federal Register on December 4, 2001 (66 FR 62954), and the proposed rule was published in the Federal Register on October 16, 2001 (66 FR 52561). EPA is hereby correcting a statement in the preamble to the final rule concerning EPA's most recent proposed interpretation of the term modifications under Title I of the Clean Air Act. The correction merely provides an accurate reference to EPA's most recent proposed interpretation of the term and neither the correction nor the initial statement is intended to have any effect on the Agency's final position on the December 4, 2001 rulemaking action.

In the preamble to the final rule, EPA responded to an adverse comment on the Proposed Rule which asserted that EPA could not grant the District's title V operating permit program full approval because the program excludes changes reviewed under minor new source review from the definition of Title I modifications. EPA included the following statement in the response: “Although EPA believes that the better interpretation of ‘Title I modifications” is to include changes reviewed under a minor source preconstruction review program, EPA does not believe it is appropriate to require the District to change the definition until EPA completes its rulemaking on this provision.” The “interpretation of ‘Title I modifications’ ” referred to in this statement is the one included in EPA's proposed interim approval of the District's title V operating permit program, which was published in the Federal Register on March 21, 1995 (60 FR 14921, 14922). The March 21, 1995 notice in turn reflected the proposed interpretation of “Title I modification” contained in EPA's proposed revisions to 40 CFR part 70 that were published in the Federal Register on August 29, 1994 (59 FR 44460, 44463). However, EPA revised its proposed interpretation of “Title I modifications” in the preamble to proposed revisions to 40 CFR parts 70 and 71 that were published in the Federal Register on August 31, 1995 to exclude modifications under the minor new source review program in section 110(a)(2)(C) of the Clean Air Act. See 60 FR 45530, 45545-45546 (explaining the rationale for the revised proposed interpretation). The December 4, 2001 response to the adverse comment on “Title I modifications” therefore did not accurately reflect EPA's current proposed interpretation of this term. Thus, the first part of the statement quoted above should not have been included. This action corrects the erroneous language in the preamble.

Correction

In rule document No. 01-29967, beginning on page 62954, in the issue of December 4, 2001, make the following correction:

On page 62956, third column, remove the last paragraph beginning with “Response:” and on page 62957, first column, remove the first two paragraphs, and replace them with the following text:

“Response: EPA, in its proposed interim approval, indicated that a revision of the 20 DCMR 399.1 Definition of Title I Modification or modification under any provision of Title I of the Act to include changes reviewed under minor new source review would be required only if EPA established such a definition through rulemaking. Because EPA has not issued any final rule specifying that the definition of a ‘Title I modification’ must include changes subject to minor new source review, the District's current regulations remain consistent with 40 CFR part 70. EPA does not believe it is appropriate to require the District to revise the definition until such time as EPA completes its rulemaking on this provision in a manner that requires a revision in the District's rules.

Should EPA revise this definition in the future, the District will be required to revise its regulations as appropriate. As stated in EPA's proposed interim approval published on March 21, 1995 (60 FR 14921, 14922), EPA did not identify the District's definition of ‘Title I modification or modification under any provision of Title I of the Act’ as necessary grounds for either interim approval or disapproval. Accordingly, EPA has not identified the District's definition of this term to be a program deficiency.”

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order (E.O.) 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of November 30, 2001. EPA will submit a report containing this rule and other required information to the U.S. Senate, the U.S. House of Representatives, and the Comptroller General of the United States prior to publication of the rule in the Federal Register. This correction to Rule Document No. 01-29967 for the District of Columbia is not a “major rule” as defined by 5 U.S.C. 804(2).

Dated: January 24, 2002.
Thomas C. Voltaggio,
Acting Regional Administrator, EPA Region III.

[FR Doc. 02-2377 Filed 1-30-02; 8:45 am]

BILLING CODE 6560-50-P